DEPARTMENT OF HEALTH AND HUMAN SERVICES

Centers for Disease Control and Prevention

Workshop on Best Practices in Workplace

The National Institute for Occupational Safety and Health (NIOSH) of the Centers for Disease Control and Prevention (CDC) announces the following meeting:

Name: Workshop on Best Practices in Workplace.

Times and Dates: 1 pm-4:30 pm, November 7, 2001;8 am-5:30 pm, November 8, 2001; 8 am-12 pm, November 9, 2001.

Location: Kingsgate Marriott Conference Center at the, University of Cincinnati, Cincinnati, OH 45219. Phone: 1-513-487-3800.

Status: Open to the public, limited only by the space available. The meeting room accommodates approximately 100 people.

Purpose: To identify successful workplace surveillance programs conducted in the private and public sectors, to learn from them, and to share their tools and effective prevention activities.

Matters to be Discussed: The workshop emphasizes practical approaches to workplace surveillance. Participants will discuss current practices, describing both the difficulties encountered, and practical examples of success and impacts that can be replicated by others. The workshop format will include an introductory plenary session the afternoon of the 1st day; followed the 2nd day by multiple parallel breakout sessions with brief oral presentations, and discussion among the participants; the morning of the 3rd day includes a plenary session with National Occupational Research Agenda (NORA) partners reporting on workshop highlights, including identified surveillance opportunities.

Contact Person for Additional Information: John P. Sestito, J.D., M.S., Division of Surveillance, Hazard Evaluations and Field Studies, NIOSH, CDC, M/S R-12, 4676 Columbia Parkway, Cincinnati, OH 45226. Telephone (513) 841-4208, E-mail Jsestito@cdc.gov.

The Director, Management Analysis and Services Office, has been delegated the authority to sign Federal Register notices pertaining to announcements of meetings and other committee management activities, for both the Centers for Disease Control and Prevention and the Agency for Toxic Substances and Disease Registry.

Dated: September 13, 2001.
Carolyn J. Russell,
Director, Management Analysis and Services Office, Centers for Disease Control and Prevention.

[FR Doc. 01-23593 Filed 9-20-01; 8:45 am]

BILLING CODE 4163-18-P